DEPARTMENT OF TRANSPORTATION

Federal Highway Administration

[Docket No. FHWA 2006-24798]

Emergency OMB Approval for the National Historic Covered Bridge Preservation Program (NHCBP)

AGENCY: Federal Highway Administration (FHWA), DOT.

ACTION: Emergency Federal Register notice.

SUMMARY: The Federal Highway Administration has submitted the following request for emergency processing of a public information collection to the Office of Management and Budget (OMB) for review and clearance under the Paperwork Reduction Act of 1995 (Pub. L. 104-13, 44 U.S.C. chapter 35.) This notice announces that the Information Collection Request (ICR) abstracted below has been forwarded to OMB for review, comment and approval. The ICR describes the nature of the information collection and the expected burden.

Comments: Comments should be directed to the Office of Information and Regulatory Affairs, Office of Management and Budget, 725 Seventeenth Street, NW., Washington, DC 20503, Attention: Desk Officer for the Federal Highway Administration.

Type of Request: New.

DATES: OMB Approval has been requested by June 9th, 2006.

FOR FURTHER INFORMATION CONTACT: For questions concerning the NHCBP program, please contact Dr. Edgar P. Small, Office of Bridge Technology, HIBT-30, at (202) 366-4622, fax (202) 366-3077, or e-mail edgar.small@dot.gov; and Mr. Everett Mattias, Office of Bridge Technology, HIBT-30, at (202) 366-6712, fax (202) 366-3077, or e-mail everett.mattias@dot.gov. For legal questions, please contact Mr. Robert Black, Office of the Chief Counsel, (202) 366-1359, robert.black@fhwa.dot.gov; Federal Highway Administration, Department of Transportation, 400 Seventh Street, SW., Washington, DC 20590. Office hours are from 7:45 a.m. to 4:15 p.m., e.t. Monday through Friday, except Federal holidays.

SUPPLEMENTARY INFORMATION: Title: National Historic Covered Bridge Preservation Program.

OMB Control Number: None assigned.

Frequency: Annual beginning in Fiscal Year 2006 and ending in 2009.

Respondents: The 50 State DOTs and Puerto Rico and the District of Columbia.

Background: Covered bridges are unique structures embodying character, functionality and historical prominence. The National Historic Covered Bridge Preservation Program has been established to find comprehensive and proven means of maintaining the ability of these vestiges of our bridge-building heritage to continue to serve current and future generations. The program was originally established under section 1224 of TEA-21 and continued under section 1804 of SAFETEA-LU. The legislation authorizes $10 million annually to be appropriated for each fiscal year between FY 2006 and FY 2009. The program is established to provide grants to States for rehabilitation, repair and preservation of historic covered bridges and to enable the Secretary of Transportation to perform research and initiate education programs on historic covered bridges.

Projects eligible for grants include rehabilitation and repair together with preservation through: Installation of fire protection systems, including a fireproofing or fire detection system and sprinklers, installation of a system to prevent vandalism and arson, or relocation of a bridge to a preservation site. The statute requires that, to the maximum extent practicable, grant projects are carried out in the most historically appropriate manner, preserve the existing structure of the historic covered bridge, and provide for the replacement of wooden components with wooden components, unless the use of wood is impracticable for safety reasons.

Research and education activities include the collection and dissemination of information on historic covered bridges; conducting educational programs relating to the history and construction techniques of historic covered bridges; conducting research on the history of historic covered bridges; and conducting research on, and study techniques for, protecting historic covered bridges from rot, fire, natural disasters, or weight-related damage.

Guidelines and Administration

To administer this program for fiscal years 2006 through 2009, the FHWA will collect information necessary to evaluate and rank projects. The information collection was developed considering public input ¹ and is intended to only address the project funding allotted through the program. Research funding will be administered separately through the FHWA Office of Infrastructure Research and Development (R&D) at the Turner Fairbank Highway Research Center, who will also administer the research and education activities. The FHWA Office of Bridge Technology will administer the grant program to assist the States in their efforts to rehabilitate, repair or preserve the Nation's historic covered bridges, which are listed or eligible for listing on the National Register of Historic Places. The FHWA will award grants based on applications received and funds available through accompanying appropriations legislation.

¹ Implementation Guidance for the National Historic Covered Bridge Preservation Program, August 23, 2000; 65 FR 51401.

Information Proposed for Collection

Information recommended under TEA-21 and proposed for the current program includes the following:

• State's Priority Ranking;

• National Bridge Inventory (NBI) Structure Number;

• Bridge Name;

• Description of Location;

• Congressional District and Representative;

• Year Built;

• Whether the structure is on or eligible for listing on the National Register of Historic Places and description of the qualities that qualify the bridge for the National Register;

• Structure description (e.g., number of spans, length, width, design type, description of decking, beams/stringers, sides and roof, wood species, wood preservation system in use, builder, traffic carried, etc.);

• General plan and elevation;

• Description of previous repair work (description, year, etc.);

• Description of proposed work including wood preservative system, fire protection, vandalism and arson prevention systems to be used;

• Indication of whether the State has a historic bridge inventory/management plan accepted by the State Historic Preservation Officer (SHPO). A programmatic agreement for historic bridges with the SHPO, FHWA and the Advisory Counsel on Historic Preservation (ACHP) may substitute;

• Description of whether the SHPO has reviewed and certified this project is warranted in accordance with the SHPO's statewide historic preservation plan; how it benefits statewide preservation efforts; how it enhances cultural tourism or enhances the history/economic development of the community; and other benefits upon successful completion of this project;

• Amount of State or local government matching funds or other resources (donated materials or labor may qualify);

• A Statement addressing when the project is complete, will the bridge meet the current State or AASHTO standards for the roadway classification that it carries;

• Plan for documentation of the bridge and the work performed;

• Scheduled start and completion date for the project (month and year); and

• Contact information for the State DOT, Local Agency (if applicable), FHWA Division Office, and State Historic Preservation Officer.

As indicated above, the FHWA has developed a template for the application and the application may be made based on this template provided by the FHWA including this information. This template is available through the FHWA Division Offices and through the FHWA Office of Bridge Technology and is available at the following URL: http://www.fhwa.dot.gov/bridge/022803a.htm#application. The template is not required but rather is provided for convenience of the applicants.

Burden Hours for Information Collection

Burden hours estimates and discussions are provided for each item presented and required within the application submittal process.

• State's Priority Ranking; 30 minutes.

○ The priority ranking will be performed by the submitting agency. Given that a small number of applications will be submitted by an individual State, the prioritization process will be limited and 30 minutes is conservatively assumed to include any potential discussion.

• NBI Structure Number; 5 minutes.

○ Projects submitted must be legally defined as a ‘bridge’ and must be located on a public road. With this constraint, each structure will already have an NBI Structure Number assigned.

• Bridge Name; 5 minutes.

○ A description of the bridge may be included in the NBI database; however, this may or may not be the commonly referenced name used locally. A burden of 5 minutes is assumed to permit the applicant to review the NBI record and any additional documentation to isolate the common bridge name.

• Description of Location; 10 minutes.

○ The location is already included in the NBI database. A burden of 10 minutes is provided assuming that the applicant will elaborate on the location information.

• Congressional District and Representative; 5 minutes.

○ The location of the bridge will be known from the information in the NBI database. A 5-minute burden is specified assuming that the applicant will have to cross reference the location with Congressional district maps. This time would be negligible if the State has employed a GIS system including the infrastructure information and the political boundaries.

• Year Built; 5 minutes.

○ The year built is already recorded in the National Bridge Inventory

• Whether the structure is on or eligible for listing on the National Register of Historic Places and description of the qualities that qualify the bridge for the National Register. 15 minutes.

○ The NBI record indicated whether the structure is located on or eligible for the National Register of Historic Places. The 15-minute burden is assumed to allow the applicant to describe the qualities that qualify the bridge for the National Register.

• Structure description (e.g., number of spans, length, width, design type, description of decking, beams/stringers, sides and roof, wood species, wood preservation system in use, builder, traffic carried, etc.); 15 minutes.

○ Most of this information will be included within the NBI database or on the inspection reports. 15 minutes is assumed for the applicant to synthesize information.

• General plan and elevation; 5 minutes.

○ This information is available for structures that have been placed on the National Register of Historic Places or for those, which are eligible and have applications complete. This information is also available for projects that have completed conceptual and preliminary engineering and design.

• Description of previous repair work (description, year, etc.); 15 minutes.

○ This information is available from bridge inspection reports and bridge files located within the State Transportation Agency. Time estimated is intended for synthesis of information from other sources.

• Description of proposed work including wood preservative system, fire protection, vandalism and arson prevention systems to be used; 15 minutes.

○ This information will be established by the need when identified and the details will be identified through the conceptual and preliminary engineering process, which is done independently. A 15-minute burden is assumed to synthesize the existing information.

• Indication of whether the State has a historic bridge inventory/management plan accepted by the State Historic Preservation Officer (SHPO). A programmatic agreement for historic bridges with the SHPO, FHWA and the Advisory Counsel on Historic Preservation (ACHP) may substitute; 5 minutes.

○ This item is readily obtained through contact with the State Historic Preservation Officer.

• Description of whether the SHPO has reviewed and certified this project is warranted in accordance with the SHPO's statewide historic preservation plan; how it benefits statewide preservation efforts; how it enhances cultural tourism or enhances the history/economic development of the community; and other benefits upon successful completion of this project; 45 minutes.

○ This information is readily obtained through contact with the State Historic Preservation Officer. A total of 45 minutes includes time for the State Historic Preservation Officer to review the project, in relation to the statewide preservation efforts, to articulate the benefits, and to document the findings.

• Amount of State or local government matching funds or other resources (donated materials or labor may qualify); 5 minutes.

○ A nominal amount of time is required to document the matching funds and amounts.

• When the project is complete, will the bridge meet the current State or AASHTO standards for the roadway classification that it carries; 5 minutes.

○ A nominal amount of time is required to ascertain and identify whether the bridge will meet the standards for the roadway classification as any exception to the standard will be identified through the preliminary engineering process and already documented.

• Plan for documentation of the bridge and the work performed; 15 minutes.

○ A plan for documentation is encouraged. Typically, each State Transportation Agency will already have a process in place to document work performed. Applicants are encouraged to identify any additional requirements warranted for these historical structures and to articulate the overall plan within the application.

• Scheduled start and completion date for the project (month and year); 5 minutes.

○ This will be determined through other processes that are performed independent of this program, including preliminary engineering and the STIP process. The available information must be synthesized on the application, which takes a nominal amount of time.

• Contact information for the State DOT, Local Agency (if applicable), FHWA Division Office, and State Historic Preservation Officer; 5 minutes.

○ This requires providing a list of contacts and involves a nominal amount of time.

The total amount of time estimated to complete the application is 3½ hours. It is estimated that FHWA will receive 30 reports giving us a total of 105 burden hours.

(Authority: Section 1804 of Pub. L. 105-59.)

James R. Kabel,
Chief, Management Programs and Analysis Division.

[FR Doc. E6-7525 Filed 5-17-06; 8:45 am]

BILLING CODE 4910-22-P